DEPARTMENT OF THE INTERIOR

Bureau of Land Management

[NV-025-1220-EA; Special Recreation Permit #NV-023-01-12]

Public Land Closures; Prohibition of Certain Activities; Nevada

AGENCY: Bureau of Land Management, Winnemucca Field Office, Nevada.

ACTION: Notice to the public of public lands closure, and prohibition of certain activities on public lands administered by the Bureau of Land Management, Winnemucca Field Office, Nevada.

SUMMARY: Notice is hereby given that certain lands would be temporarily closed or restricted, and certain activities would be temporarily prohibited, in and around the Burning Man Festival event site, Pershing and Washoe counties, Nevada, for camping, vehicle use, fire use, and aircraft landing from 6 a.m., August 27, 2001, to 12:00 pm, September 3, 2001. Certain lands would be temporarily closed or restricted, and certain activities would be temporarily prohibited, in the Winnemucca District, Pershing and Washoe Counties, Nevada, for fireworks use and firearms use from 6 a.m., August 10, 2001, to 12:00 pm, September 10, 2001. These closures, restrictions and prohibitions are being made in the interest of public safety at and around the public lands location of an event known as the Burning Man Festival. This event is expected to attract at approximately 30,000 participants this year. The lands involved are located in the Mount Diablo Meridian and located northeast of Gerlach, Nevada.

Public Camping Is Prohibited in the Following Areas: T33N, R24E, Sec. 1: W½ ; Sec. 2; Sec. 3; Sec. 4; Sec. 9; Sec. 10; Sec. 11; Sec. 12: W½ ; Sec. 15: N½ of the NW ¼; Sec. 16: N½; T33½N, R24E, Sec. 33; Sec. 34; Sec. 35; Sec. 36: W½ . These areas are closed during the event period, August 27, 2000 to September 3, 2001, with the exception of defined camping areas designated and provided by the Black Rock City LLC, an authorized “pilot camp” and BLM-authorized event management-related camps.

Operation of Motorized Vehicles Is Prohibited on the Following Public Lands: T33N, R24E, Sec. 2, Sec. 3, Sec. 4, Sec. 9, Sec. 10, Sec. 11. T33½N, R24E, Sec. 33; Sec. 34; Sec. 35. These areas within the event boundary are closed during the Burning Man event period, August 27, 2001 to September 3, 2001, with the following exceptions: participant arrival at the event and departure following event completion on designated routes, art vehicles registered with Burning Man; Black Rock City LLC staff and support, BLM, medical, law enforcement, and firefighting vehicles. “Art Cars” must register with Burning Man/Black Rock City LLC and must provide evidence of registration at all times.

The following Public Lands are Closed: T33N, R24E, Sec. 4: NW¼; Sec. 4: S½; Sec. 5: SE¼; Sec 8: NE¼; Sec 8: S½ ; Sec. 9; Sec. 10: W½; Sec. 15: N½ of the NW¼; Sec 16: N½ . T33½N, R24E, Sec. 33: NE¼; Sec. 34: NW¼. For event safety during entry, exit and airstrip operations, Playa areas southwest, west and northwest of the event are closed during the Burning Man event period, August 27, 2001 to September 3, 2001, with the exception of BLM personnel, law enforcement, emergency medical services, Burning Man staff as designated by the BLM authorized officer, entrance road and the airstrip.

Fire Restriction Orders are in effect pursuant to 43 CFR 9212.2, 36 CFR 261.50(a)(b) for all lands managed by the BLM, Winnemucca Field Office. Black Rock City LLC/Burning Man will abide by fire restriction orders, except for the following as officially approved by Black Rock City LLC in coordination with BLM: Official art burns, authorized event fireworks, and other authorized fires only in Black Rock City LLC/Burning Man-supplied fire pans and fire barrels.

The use, sale or possession of personal fireworks within the Burning Man Event/Black Rock City boundary fence is prohibited on the following public lands from August 10, 2001, through September 10, 2001: T33N, R24E, Sec. 2; Sec. 3; Sec. 4; Sec. 9; Sec. 10; Sec. 11; T33½N, R24E, Sec. 33; Sec. 34; Sec. 35, with the exception of those fireworks that have been approved by Black Rock City LLC as part of an official Burning Man art burn event.

Possession of Firearms Is Prohibited on the Following Public Lands from August 10, 2001, through September 10, 2001: T33N, R24E, Sec. 2; Sec. 3; Sec. 4; Sec. 9; Sec. 10; Sec. 11; T33½N, R24E, Sec. 33; Sec. 34; Sec. 35. This closure is in effect inside the Burning Man event/Black Rock City boundary fence, with the exception of county, state and federal certified law enforcement personnel under the color of law. “Firearm” means any device designed to be used as a weapon from which a projectile may be expelled through the barrel by the force of any explosion or other form of combustion (NRS 202.253).

Discharge of Firearms Is Prohibited on the Following Public Lands from August 10, 2001, through September 10, 2001: T33N, R24E, Sec. 1; Sec. 2; Sec. 3; Sec. 4; Sec. 5; Sec 6: E½; Sec 8; Sec. 9; Sec. 10; Sec. 11; Sec. 12; Sec. 13: N½ ; Sec. 13: SW¼; Sec. 14; Sec. 15; Sec. 16; Sec. 17: E½; Sec. 17: NW¼; Sec. 21: NE¼; Sec. 22: N½, Sec. 23: NW¼; T33N, R25E, Sec. 4; Sec. 9: W½ ; Sec. 9: NW¼ of the NE¼; T33½N, R24E, Sec. 25; Sec. 26; Sec. 27 Sec. 28; Sec. 29; Sec. 32; Sec. 33; Sec. 34; Sec. 35; Sec. 36; T34N, R24E, Sec. 33: NE¼; Sec. 33: S½; Sec. 34; Sec. 35; Sec. 36: S½; T34N, R25E, Sec. 33. This closure applies for two miles in all directions from the event boundary, with the exception of law enforcement officers under color of law.

Aircraft are prohibited from landing, taking off, and taxiing on the following public lands from August 27, 2001, through September 3, 2001: T33N, R23E, Sec. 25: E½; T33N, R24E, Sec. 1; Sec. 2; Sec. 3; Sec. 4; Sec. 5: SE¼; Sec. 8: NE¼; Sec. 8: S½; Sec. 9; Sec. 10; Sec. 11; Sec.12; Sec. 13: W½;. Sec. 14; Sec. 15; Sec. 16; Sec. 17; Sec. 18: NE¼; Sec. 18: S½; Sec 19; Sec. 20; Sec. 21; Sec. 22: N½; Sec. 28: NW¼; Sec. 29; Sec. 30: NE¼; T33N, R25E, Sec. 2: N½; Sec. 3: N½; Sec. 4; T33½N, R24E, Sec. 25; Sec. 26; Sec. 27; Sec. 28; Sec. 33; Sec. 34; Sec. 35; Sec. 36; T34N, R24E, Sec. 23: NE¼; Sec. 23: S½; Sec. 24; Sec. 25; Sec. 26; Sec. 27: SE¼; Sec. 33: E½; Sec. 34; Sec. 35: Sec. 36; T34N, R25E, Sec.16; Sec. 21; Sec. 22: S½; Sec 26: SW¼; Sec 27; Sec.28; Sec.33; Sec. 34; Sec. 35. This closure applies to the Playa for five miles in all directions from the event boundary during the event, with the exception of an authorized Burning Man landing strip for Burning Man staff and participants, law enforcement and emergency medical services. This airstrip is the only location Burning Man-related aircraft may land, with the exception of emergency aircraft such as Care Flight, Sheriff's or MAST helicopters.

A map showing these temporary closure, restrictions and prohibitions is available from the following BLM office: BLM-Winnemucca Field Office, 5100 East Winnemucca Blvd., Winnemucca, Nevada 89445.

The map may also be viewed on the Winnemucca Field Office website at: www.nv.blm.gov/winnemucca.

DATES: August 1, 2001 to September 20, 2001.

FOR FURTHER INFORMATION CONTACT: Michael Bilbo, Outdoor Recreation Planner, at the Bureau of Land Management, Winnemucca Field Office, 5100 East Winnemucca Blvd., Winnemucca, Nevada 89445, (775) 623-1500.

Authority: 43 CFR 8364.

Penalty: Any person failing to comply with the closure orders may be subject to imprisonment for not more than 12 months, or a fine in accordance with the applicable provisions of 18 USC 3571, or both.

Dated: June 29, 2001.
Les Boni,
Acting Field Manager, Winnemucca Field Office.

[FR Doc. 01-19035 Filed 7-30-01; 8:45 am]

BILLING CODE 4310-HC-P